NUCLEAR REGULATORY COMMISSION

10 CFR Part 72

RIN 3150-AG82

List of Approved Spent Fuel Storage Casks: Westinghouse MC-10 Termination; Confirmation of Effective Date

AGENCY: Nuclear Regulatory Commission.

ACTION: Direct final rule; confirmation of effective date.

SUMMARY: The Nuclear Regulatory Commission (NRC) is confirming the effective date of November 5, 2001, for the direct final rule that appeared in the Federal Register of August 21, 2001 (66 FR 43761). This direct final rule amended the NRC's regulations revising the “List of Approved Spent Fuel Storage Casks” by terminating Certificate of Compliance Number 1001 for the Westinghouse MC-10 cask system. The Westinghouse MC-10 can no longer be used to store spent fuel under a general license. This document confirms the effective date.

DATES: The effective date of November 5, 2001 is confirmed for this direct final rule.

ADDRESSES: Documents related to this rulemaking, including comments received, may be examined at the NRC Public Document Room, 11555 Rockville Pike, Rockville, MD. These same documents may also be viewed and downloaded electronically via the rulemaking Web site (http://ruleforum.llnl.gov). For information about the interactive rulemaking website, contact Ms. Carol Gallagher (301) 415-5905; e-mail CAG@nrc.gov.

FOR FURTHER INFORMATION CONTACT: Merri Horn, Office of Nuclear Material Safety and Safeguards, U.S. Nuclear Regulatory Commission, Washington, DC 20555. Telephone (301) 415-8126 (E-mail: mlh1@nrc.gov).

SUPPLEMENTARY INFORMATION: On August 21, 2001 (66 FR 43761), the NRC published in the Federal Register a direct final rule amending its regulations in 10 CFR 72 revising the “List of Approved Spent Fuel Storage Casks” by terminating Certificate of Compliance Number 1001 for the Westinghouse MC-10 cask system. The Westinghouse MC-10 can no longer be used to store spent fuel under a general license. In the direct final rule, NRC stated that if no significant adverse comments were received, the direct final rule would become final on the date noted above. The NRC did not receive any comments that warranted withdrawal of the direct final rule. Therefore, this rule will become effective as scheduled.

Dated at Rockville, Maryland, this 29th day of October, 2001.
For the Nuclear Regulatory Commission.
Michael T. Lesar,
Chief, Rules and Directives Branch, Division of Administrative Services, Office of Administration.

[FR Doc. 01-27578 Filed 11-1-01; 8:45 am]

BILLING CODE 7590-01-P